ENVIRONMENTAL PROTECTION AGENCY

[EPA-HQ-OPP-2006-0703; FRL-8093-1]

Exposure Modeling Work Group; Notice of Public Meeting

AGENCY: Environmental Protection Agency (EPA).

ACTION: Notice.

SUMMARY: The Exposure Modeling Work Group (EMWG) will hold a 1-day meeting on October 3, 2006. This notice announces the location and time for the meeting and provides the tentative agenda topics.

DATES: The meeting will be held on October 3, 2006 from 9 am to 3 pm.

To request accommodation of a disability, please contact the person listed under FOR FURTHER INFORMATON CONTACT, preferably at least 10 days prior to the meeting, to give EPA as much time as possible to process your request.

ADDRESSES: The meeting will be held at the Environmental Protection Agency, Office of Pesticide Programs (OPP), One Potomac Yard (South Building), Room S-4380, 2777 S. Crystal Drive, Arlington, VA.

FOR FURTHER INFORMATION CONTACT: Keara Moore, Environmental Fate and Effects Division, Office of Pesticide Programs, Environmental Protection Agency, 1200 Pennsylvania Ave., NW., Washington, DC 20460-0001; telephone number: (703) 305-0878; fax number: (703) 305-6309; e-mail address: moore.keara@epa.gov.

SUPPLEMENTARY INFORMATION:

I. General Information

A. Does this Action Apply to Me?

This action is directed to the public in general, and may be of particular interest to those persons who are or may be required to conduct testing of chemical substances under the Toxic Substances Control Act (TSCA), the Federal Food, Drug and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2006-0703. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Background

On a quarterly interval, the Exposure Modeling Work Group meets to discuss current issues in modeling pesticide fate, transport, and exposure to pesticides in support of risk assessment in a regulatory context.

III. How Can I Request to Participate in this Meeting?

You may submit a request to participate in this meeting to the person listed under FOR FURTHER INFORMATION CONTACT. Do not submit any information in your request that is considered CBI. Requests to participate in the meeting, identified by docket ID number EPA-HQ-OPP-2006-0703, must be received on or before October 23, 2006.

IV. Tentative Agenda

1. Welcome and Introductions

2. Old Action Items

3. Brief Updates

4. Major Topics

• Use of Visual PLUMES and EXAMS in the Development and Field Evaluation of Aquatic Herbicides (Scott Jackson, BASF)

• Field and Modeling Investigations of Setback Distances for Aquatic Pest Management Products (TCB, Dow)

• 2-D Canal and Lake Modeling using Finite Element Model RMA-11 (TBD, Syngenta)

• Exposure Assessment of Aquatic Pesticides (R David Jones, EPA/EFED)

• TBD, (Kurt Getsinger, USACE)

• TBD, (Lars Anderson, USDA-ARS)

List of Subjects

Environmental protection, Modeling, Pesticides, Pests.

Dated: September 12, 2006.
Steven Bradbury,
Director, Environmental Fate and Effects Division, Office of Pesticide Program.

[FR Doc. 06-7958 Filed 9-21-06; 8:45 am]

BILLING CODE 6560-50-S